DEPARTMENT OF ENERGY

Federal Energy Regulatory Commission

Combined Notice of Filings # 1

Docket Numbers: EG23-220-000.

Applicants: PGR 2022 Lessee 8, LLC.

Description: PGR 2022 Lessee 8, LLC submits Notice of Self-Certification of Exempt Wholesale Generator Status.

Filed Date: 7/5/23.

Accession Number: 20230705-5118.

Comment Date: 5 p.m. ET 7/26/23.

Docket Numbers: EG23-221-000.

Applicants: Porter Solar, LLC.

Description: Porter Solar, LLC submits Notice of Self-Certification of Exempt Wholesale Generator Status.

Filed Date: 7/5/23.

Accession Number: 20230705-5127.

Comment Date: 5 p.m. ET 7/26/23.

Take notice that the Commission received the following electric rate filings:

Docket Numbers: ER10-1547-015; ER10-1975-031; ER10-2421-011; ER10-2585-010; ER10-2613-010; ER10-2616-025; ER10-2617-012; ER10-2619-013; ER21-2346-002; ER21-2347-002; ER10-2674-015; ER10-2677-016; ER11-2457-011; ER11-3857-017; ER11-3867-017; ER11-4266-018; ER11-4400-022; ER12-75-014; ER12-192-017; ER12-1769-013; ER12-2250-012; ER12-2251-012; ER12-2252-013; ER12-2253-012; ER13-2475-014; ER14-883-017; ER14-1569-018; ER14-2245-012; ER15-1596-018; ER15-1598-009; ER15-1599-018; ER15-1600-008; ER15-1602-008; ER15-1605-008; ER15-1607-008; ER17-1906-005; ER19-102-011; ER19-158-013; ER19-2803-010; ER19-2806-010; ER19-2807-010; ER19-2809-010; ER19-2810-010; ER19-2811-010.

Applicants: Viridian Energy, LLC, Viridian Energy PA, LLC, Viridian Energy NY, LLC, Energy Rewards, LLC, Connecticut Gas & Electric, Inc., Cincinnati Bell Energy LLC, Ambit Northeast, LLC, Luminant Energy Company LLC, Lake Road Generating Company, LLC, Washington Power Generation LLC, Miami Fort Power Company LLC, Hanging Rock Power Company LLC, Fayette Power Company LLC, Dynegy Energy Services (East), LLC, Dicks Creek Power Company LLC, Luminant Commercial Asset Management LLC, TriEagle Energy, LP, Dynegy Energy Services, LLC, Illinois Power Marketing Company, Kincaid Generation, L.L.C., Public Power & Utility of Maryland, LLC, Public Power (PA), LLC, Public Power & Utility of NY, Inc, Everyday Energy NJ, LLC, Everyday Energy, LLC, Liberty Electric Power, LLC, Public Power. LLC, Dynegy Power Marketing, LLC, Richland-Stryker Generation LLC, Masspower, LLC, Milford Power Company, LLC, Massachusetts Gas & Electric, Inc., Pleasants Energy, LLC, Calumet Energy Team, LLC, Blackstone Power Generation LLC, Bellingham Power Generation LLC, Kendall Power Company LLC, Ontelaunee Power Operating Company LLC, LLC, Dynegy Marketing and Trade, LLC, Sithe/Independence Power Partners, L.P., Casco Bay Energy Company, LLC, Energy Services Providers, LLC, Sayreville Power Generation LP, Hopewell Power Generation, LLC

Description: Triennial Market Power Analysis for Northeast Region of Hopewell Power Generation, LLC.

Filed Date: 6/29/23.

Accession Number: 20230629-5199.

Comment Date: 5 p.m. ET 8/28/23.

Docket Numbers: ER10-2487-007; ER15-2380-005.

Applicants: Willey Battery Utility, LLC, Pacific Summit Energy LLC.

Description: Triennial Market Power Analysis for Northeast Region of Pacific Summit Energy LLC.

Filed Date: 6/29/23.

Accession Number: 20230629-5206.

Comment Date: 5 p.m. ET 8/28/23.

Docket Numbers: ER10-2924-016.

Applicants: Kleen Energy Systems, LLC.

Description: Triennial Market Power Analysis for Northeast Region of Kleen Energy Systems, LLC.

Filed Date: 6/29/23.

Accession Number: 20230629-5204.

Comment Date: 5 p.m. ET 8/28/23.

Docket Numbers: ER11-2534-010; ER16-2234-006.

Applicants: EF Kenilworth LLC, Morris Cogeneration, LLC.

Description: Triennial Market Power Analysis for Northeast Region of Morris Cogeneration, LLC, et al.

Filed Date: 6/29/23.

Accession Number: 20230629-5205.

Comment Date: 5 p.m. ET 8/28/23.

Docket Numbers: ER11-3861-016.

Applicants: Empire Generating Co, LLC.

Description: Triennial Market Power Analysis for Northeast Region of Empire Generating Co, LLC.

Filed Date: 6/29/23.

Accession Number: 20230629-5200.

Comment Date: 5 p.m. ET 8/28/23.

Docket Numbers: ER14-2498-013; ER14-2500-013.

Applicants: Newark Energy Center, LLC,EIF Newark, LLC.

Description: Triennial Market Power Analysis for Northeast Region of EIF Newark, LLC, et al.

Filed Date: 6/29/23.

Accession Number: 20230629-5201.

Comment Date: 5 p.m. ET 8/28/23.

Docket Numbers: ER15-1905-013.

Applicants: Amazon Energy LLC.

Description: Triennial Market Power Analysis for Northeast Region of Amazon Energy LLC.

Filed Date: 6/29/23.

Accession Number: 20230629-5203.

Comment Date: 5 p.m. ET 8/28/23.

Docket Numbers: ER22-2340-001.

Applicants: Basin Electric Power Cooperative.

Description: Tariff Amendment: Basin Electric Power Cooperative Amendment to Order No. 881 Compliance Filing to be effective 7/12/2025.

Filed Date: 7/6/23.

Accession Number: 20230706-5061.

Comment Date: 5 p.m. ET 7/27/23.

Docket Numbers: ER23-2337-000.

Applicants: Tri-State Generation and Transmission Association, Inc.

Description: § 205(d) Rate Filing: Initial Filing of Service Agreement No. 914 to be effective 6/13/2023.

Filed Date: 7/5/23.

Accession Number: 20230705-5112.

Comment Date: 5 p.m. ET 7/26/23.

Docket Numbers: ER23-2338-000.

Applicants: Idaho Power Company.

Description: § 205(d) Rate Filing: Section 1/Attach. O Section 8—Assistance Energy and Measured Demand Definition to be effective 7/1/2023.

Filed Date: 7/5/23.

Accession Number: 20230705-5115.

Comment Date: 5 p.m. ET 7/26/23.

Docket Numbers: ER23-2339-000.

Applicants: Wisconsin Electric Power Company.

Description: § 205(d) Rate Filing: Formula Rate Update Filing for 2022 Rate Year to be effective 9/4/2023.

Filed Date: 7/5/23.

Accession Number: 20230705-5119.

Comment Date: 5 p.m. ET 7/26/23.

Docket Numbers: ER23-2340-000.

Applicants: Arizona Public Service Company.

Description: § 205(d) Rate Filing: Service Agreement No. 412, LGIA with 302PN 8me, LLC to be effective 6/5/2023.

Filed Date: 7/5/23.

Accession Number: 20230705-5121.

Comment Date: 5 p.m. ET 7/26/23.

Docket Numbers: ER23-2341-000.

Applicants: CORE Electric Cooperative.

Description: Petition of CORE Electric Cooperative for Limited Waiver, or in the Alternative for Remedial Relief, Shortened Comment Period, and Expedited Action.

Filed Date: 7/3/23.

Accession Number: 20230703-5286.

Comment Date: 5 p.m. ET 7/24/23.

Docket Numbers: ER23-2342-000.

Applicants: Southwest Power Pool, Inc.

Description: § 205(d) Rate Filing: 4089 Sholes Wind II GIA to be effective 6/14/2023.

Filed Date: 7/6/23.

Accession Number: 20230706-5040.

Comment Date: 5 p.m. ET 7/27/23.

Docket Numbers: ER23-2343-000.

Applicants: Southwest Power Pool, Inc.

Description: § 205(d) Rate Filing: 4096 Southwestern Power Admin/City of Sikeston MO Int Agr to be effective 8/1/2023.

Filed Date: 7/6/23.

Accession Number: 20230706-5043.

Comment Date: 5 p.m. ET 7/27/23.

Docket Numbers: ER23-2344-000.

Applicants: MidAmerican Energy Company.

Description: § 205(d) Rate Filing: Concurrence in ITC CSA to be effective 9/4/2023.

Filed Date: 7/6/23.

Accession Number: 20230706-5046.

Comment Date: 5 p.m. ET 7/27/23.

Docket Numbers: ER23-2345-000.

Applicants: Midcontinent Independent System Operator, Inc.

Description: § 205(d) Rate Filing: 2023-07-06_SA 2838 METC-AEP IA Certificate of Concurrence to be effective 6/1/2023.

Filed Date: 7/6/23.

Accession Number: 20230706-5049.

Comment Date: 5 p.m. ET 7/27/23.

Docket Numbers: ER23-2346-000.

Applicants: Oak Ridge Solar, LLC

Description: Baseline eTariff Filing: Oak Ridge Solar MBR Tariff to be effective 7/7/2023.

Filed Date: 7/6/23.

Accession Number: 20230706-5052.

Comment Date: 5 p.m. ET 7/27/23.

Docket Numbers: ER23-2347-000.

Applicants: American Electric Power Service Corporation.

Description: American Electric Power Service Corporation submits for Indiana Michigan Power Company terminating the Facilities Agreement between Indiana Michigan Power Co. and Covert Generating Company, L.L.C.

Filed Date: 7/6/23.

Accession Number: 20230706-5062.

Comment Date: 5 p.m. ET 7/27/23.

Docket Numbers: ER23-2348-000.

Applicants: Arizona Public Service Company.

Description: § 205(d) Rate Filing: Rate Schedule No. 217, Exhibit B.LIB to be effective 9/7/2023.

Filed Date: 7/6/23.

Accession Number: 20230706-5075.

Comment Date: 5 p.m. ET 7/27/23.

Docket Numbers: ER23-2349-000.

Applicants: PJM Interconnection, L.L.C.

Description: Tariff Amendment: Notice of Cancellation of ISA, SA No. 6824; Queue No. AE2-120 re: deadline to be effective 9/5/2023.

Filed Date: 7/6/23.

Accession Number: 20230706-5085.

Comment Date: 5 p.m. ET 7/27/23.

Docket Numbers: ER23-2350-000.

Applicants: PJM Interconnection, L.L.C.

Description: § 205(d) Rate Filing: Original NSA, Service Agreement No. 6998; Queue No. T127 to be effective 9/5/2023.

Filed Date: 7/6/23

Accession Number: 20230706-5087.

Comment Date: 5 p.m. ET 7/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 6, 2023.
Debbie-Anne A. Reese,
Deputy Secretary.

[FR Doc. 2023-14760 Filed 7-11-23; 8:45 am]

BILLING CODE 6717-01-P